DEPARTMENT OF COMMERCE

National Oceanic and Atmospheric Administration

[Docket No. 030602141-5301-30]

Request for Proposals for Fiscal Year 2006-NOAA Educational Partnership Program With Minority Serving Institutions: Environmental Entrepreneurship Program

AGENCY: National Oceanic and Atmospheric Administration (NOAA), U.S. Department of Commerce (DOC).

ACTION: Notice of availability of funds.

SUMMARY: NOAA's Environmental Entrepreneurship Program is soliciting proposals that support environmental revitalization projects. Projects should engage students at MSIs in hands-on training and experiential learning opportunities in the application of NOAA science and business acumen.

The program's objective is to increase the number of students proficient in environmental business enterprises. For the purposes of this program, Environmental Business Enterprises is defined as applying skills and techniques in the development and operations of businesses that resolve environmental degradation in local communities.

The process involves engaging students in the application of business skills and best management science techniques that will enable students to gain practical experience in resolving environmental degradation in their local communities. Students are expected to learn how to transform business concepts into innovative products or services that support environmental business enterprises. This is achieved through community-based collaborative processes.

It is expected that three cooperative agreement awards will be funded in fiscal year 2006. Eligible MSIs may apply for a maximum of $200,000, on a competitive basis, to support environmental revitalization projects, for a two or three-year period. The total funding available is $600,000, subject to Congressional appropriations.

The program's vision is an increased number of students at MSIs proficient in environmental business enterprises that advance DOC/NOAA's mission. Successful programs will build the institution's capacity to train students in developing and operating businesses in local communities where there is a need to sustain or revitalize naturally depleted environments.

DATES: Full Proposals must be received by 2 p.m. (eastern standard time) February 13, 2006. Facsimile transmissions and electronic mail submission of proposals will not be accepted.

ADDRESSES: Applicants are strongly encouraged to submit applications through the Grants.gov Web site. Electronic access to the full funding opportunity announcement for this program is available via the Grants.gov Web site: http://www.grants.gov. The announcement will also be available at the NOAA Web site http://www.ofa.noaa.gov/%7Eamd/solindex.html or by contacting the program official identified below. Applicants must comply with all requirements contained in the full funding opportunity announcement.

If Internet access is unavailable, paper applications (a signed original and two copies) should be submitted by postal mail, commercial delivery service, or hand-delivery to the Educational Partnership Program at the following address: NOAA/EPP, 1315 East-West Highway, SSMC III, Room 10600, Silver Spring, Maryland 20910. Facsimile and electronic mail submission of applications will not be accepted.

FOR FURTHER INFORMATION CONTACT: Jacqueline Rousseau, Program Director at (301) 713-9437 extension 124 or Jacqueline.J.Rousseau@noaa.gov.

SUPPLEMENTARY INFORMATION:

Summary Description

NOAA's Environmental Entrepreneurship Program supports projects aimed at increasing opportunities for students at MSIs to become proficient in environmental business enterprises.

According to the U.S. DOC Census Bureau, 2002 Economic Statistics Report, under represented groups comprise only fourteen percent of the total U.S. businesses. These include:

• 5% of the U.S. businesses are owned by Blacks;

• 6.85% of the U.S. businesses are owned by Hispanic or Latinos;

• 0.89% (less than one percent) of U.S. businesses are owned by American Indian and Alaska Natives and;

• (0.14%) (less than one percent) of U.S. businesses are owned by Native Hawaiian and Pacific Islanders.

The EEP advances the U.S. Department of Commerce mission “to create the conditions for economic growth and opportunity by promoting innovation, entrepreneurship, competitiveness and stewardship”. In addition, the EEP supports NOAA's efforts to foster environmental literacy.

Minority Serving Institutions are expected to design Environmental Revitalization Projects that train students in becoming proficient in environmental business enterprises. The projects must engage students in resolving environmental degradation in local communities where there is a need to sustain or revitalize naturally depleted environments.

The projects must be undertaken through community-based collaborative efforts among MSIs, NOAA, and the private sector. Business incubators serve as a learning environment for training aspiring entrepreneurs; therefore, MSIs that collaborate with business incubators are highly encouraged.

MSIs are also encouraged to pursue collaboration with campus or local community-based minority business development centers, small business development centers, and community and economic development organizations. Strong linkages or collaborations with NOAA programs, laboratories and facilities and the private sector are required. Innovative approaches to training students are sought that take maximum advantage of synergies and partnerships with Business Incubators, Minority Business Development Centers, Small Business Development Centers and Community and Economic Development organizations.

MSIs, and their partners, must train a minimum of ten students each year of the project in a combination of science and business skills under this program.

Partnerships should enable students to become proficient in businesses that resolve environmental degradation in support of NOAA's science mission areas. These include assisting students to become proficient in businesses that would:

(1) Protect, restore, and manage coastal and ocean resources through ecosystem management;

(2) Increase the number and use of climate information, products and services that would enable local communities to plan and respond to climate variability and change;

(3) Improve weather and water information, products and services to improve the understanding, observation, forecasting and warning of environmental events; and

(4) Support the nation's commerce with information, products and services for safe, efficient, and environmentally sound transportation.

MSIs should ensure students obtain the necessary knowledge, skills, tools and technology training that are applied outside the classroom. The projects should allow students to gain practical, real-world experiences to understand the nature and extent of environmental degradation within local communities. Students should be trained in testing and monitoring methods to prevent, control, and reduce the degradation of natural environments.

The intention is for students to apply skills and techniques, business concepts, and products and services for the expansion of commerce and economic development.

At the end of the project, participating students will be proficient in environmental business enterprises. Students and faculty will contribute to promoting environmental sustainability and revitalizing local communities in support of NOAA's science mission areas.

Electronic Access

Applicants can access, download, and submit electronic grant applications, including the full funding opportunity announcement, for NOAA programs at the Grants.gov Web site: http://www.grants.gov. The announcement will also be available at the NOAA Web site http://www.ofa.noaa.gov/%7Eamd/SOLINDEX.HTML or by contacting the program official identified above. The closing date will be the same as for the paper submissions noted in this announcement. NOAA strongly recommends that applicants not wait until the application deadline date to begin the application process through Grants.gov.

If Internet access is unavailable, a signed original and two paper copies of proposals will also be accepted by the submission deadline. This includes color or high-resolution graphics, unusually sized materials, or otherwise unusual materials submitted as part of the proposal. For color graphics, submit either color originals or color copies. Facsimile transmissions and electronic mail submission of full proposals will not be accepted.

Funding Availability

This solicitation announces that funding up to $600,000 will be available in FY 2006, with a maximum of $200,000 per award for a two (2) or three (3) year period, subject to Congressional appropriations.

Applications for awards in access of $200,000 will not be considered. It is anticipated that the funding instrument will be a cooperative agreement since NOAA will be substantially involved in collaborative student training and experiential learning activities.

Authority: 15 U.S.C. 1540.

Catalog of Federal Domestic Assistance: 11.481—Educational Partnership Program with Minority Serving Institutions.

Eligibility

Minority Serving Institutions eligible to submit proposals include institutions of higher education identified by the Department of Education as:

(1) Historically Black Colleges and Universities,

(2) Hispanic-Serving Institutions,

(3) Tribal Colleges and Universities,

(4) Alaska Native or Native Hawaiian Serving Institutions.

on the most recent “United States Department of Education Accredited Postsecondary Minority Institutions” list (at the date of publication of this notice). The most recent list can be found on the NOAA EPP Web site at: http://epp.noaa.gov/.

Proposals submitted by non-profit organizations, foundations, auxiliary services or any other entity on behalf of MSIs will not be accepted.

Cost Sharing Requirements

Matching requirements include 10 percent match of the total grant project in direct student support. Matching funds must be from non-Federal sources (in the private sector) and may include in-kind contributions in support of students working and using equipment for the purposes of training. The nature of the contribution (cash versus in-kind) and the amount of matching funds will be taken into consideration in the review process.

The Director of NOAA's Office of Education may waive all or part of the matching requirement if the Director determines that the project meets the following two requirements: (1) No reasonable means are available through which an applicant can meet the matching requirement; and (2) The probable benefit of such project outweighs the public interest in such matching requirement. In the case of a waiver request, the applicant must provide a detailed justification explaining the need for the waiver. The program shall waive any requirement for local matching funds to the governments of Insular Areas, defined as the jurisdictions of the U.S. Virgin Islands, Guam, American Samoa, and the Commonwealth of the Northern Mariana Islands.

Intergovernmental Review

Applications under this program are not subject to Executive Order 12372, “Intergovernmental Review of Federal Programs.”

Evaluation and Selection Criteria and Procedures

NOAA published its agency-wide solicitation entitled “Omnibus Notice Announcing the Availability of Grant Funds for Fiscal Year 2006” for projects for Fiscal Year 2006 in the Federal Register on June 30, 2005 (70 FR 37766). The evaluation and selection criteria and procedures for projects contained in that omnibus notice are applicable to this notice. Copies of this notice are available on the Internet at http://www.ofa.noaa.gov/%7Eamd/SOLINDEX.HTML. Further details on evaluation and selection criteria and procedures applicable to this notice can be found in the full funding opportunity announcement.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification requirements for Grants and Cooperative Agreements contained in the Federal Register notice of December 30, 2004 (69 FR 78389) are applicable to this solicitation.

Limitation of Liability

In no event will NOAA or the Department of Commerce be responsible for proposal preparation costs if these programs fail to receive funding or are cancelled because of other agency priorities. Publication of this announcement does not oblige NOAA to award any specific project or to obligate any available funds. Recipients and sub-recipients are subject to all Federal laws and agency policies, regulations and procedures applicable to Federal financial assistance awards.

Paperwork Reduction Act

This notification involves collection-of-information requirements subject to the Paperwork Reduction Act (PRA). The use of Standard Forms 424, 424A, 424B, and SF-LLL and CD-346 has been approved by the Office of Management and Budget (OMB) under control numbers 0348-0043, 0348-0044, 0348-0040 and 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared, and none has been prepared.

Mark Brown,
Chief Financial Officer, NOAA, Oceanic and Atmospheric Research.

[FR Doc. E5-7397 Filed 12-14-05; 8:45 am]

BILLING CODE 3510-22-P